DEPARTMENT OF HOMELAND SECURITY

Federal Emergency Management Agency

[Docket ID FEMA-2018-0002; Internal Agency Docket No. FEMA-B-1837]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arizona:
Maricopa | City of Goodyear, (18-09-0175P) | The Honorable Georgia Lord, Mayor, City of Goodyear, 190 North Litchfield Road, Goodyear, AZ 85338 | Engineering Department, 14455 West Van Buren Street, Goodyear, AZ 85338 | https://msc.fema.gov/portal/advanceSearch | Sep. 14, 2018 | 040046
Maricopa | City of Surprise, (18-09-0588P) | The Honorable Sharon Wolcott, Mayor, City of Surprise, 16000 North Civic Center Plaza, Surprise, AZ 85374 | Public Works Department, Engineering Development Services, 16000 North Civic Center Plaza, Surprise, AZ 85374 | https://msc.fema.gov/portal/advanceSearch | Sep. 21, 2018 | 040053
California:
Lassen | Unincorporated Areas of Lassen County, (18-09-0502P) | The Honorable Chris Gallagher, Chairman, Board of Supervisors, Lassen County, 221 South Roop Street Suite 4, Susanville, CA 96130 | Lassen County Building Official, 707 Nevada Street, Susanville, CA 96130 | https://msc.fema.gov/portal/advanceSearch | Sep. 12, 2018 | 060092
Santa Barbara | City of Carpinteria, (17-09-0602P) | The Honorable Fred Shaw, Mayor, City of Carpinteria, 5775 Carpinteria Avenue, Carpinteria, CA 93013 | Department of Public Works, 5775 Carpinteria Avenue, Carpinteria, CA 93013 | https://msc.fema.gov/portal/advanceSearch | Sep. 14, 2018 | 060332
Sonoma | City of Petaluma, (18-09-0524P) | The Honorable David Glass, Mayor, City of Petaluma, 11 English Street, Petaluma, CA 94952 | City Hall, 11 English Street, Petaluma, CA 94952 | https://msc.fema.gov/portal/advanceSearch | Sep. 21, 2018 | 060379
Trinity | Unincorporated Areas of Trinity County, (17-09-2611P) | The Honorable Keith Groves, Chairman, Board of Supervisors, Trinity County, P.O. Box 1613, Weaverville, CA 96093 | Trinity County Planning Department, 61 Airport Road, Weaverville, CA 96093 | https://msc.fema.gov/portal/advanceSearch | Sep. 13, 2018 | 060401
Indiana:
Hamilton | City of Carmel, (18-05-0387P) | The Honorable James Brainard, Mayor, City of Carmel, City Hall, 1 Civic Square, Carmel, IN 46032 | Department of Community Services, 1 Civic Square, Carmel, IN 46032 | https://msc.fema.gov/portal/advanceSearch | Jun. 27, 2018 | 180081
Marion | City of Indianapolis, (18-05-0387P) | The Honorable Joe Hogsett, Mayor, City of Indianapolis, 2501 City-County Building, 200 East Washington Street, Indianapolis, IN 46204 | City Hall, 1200 Madison Avenue, Suite 100, Indianapolis, IN 46225 | https://msc.fema.gov/portal/advanceSearch | Jun. 27, 2018 | 180159
Kansas: Riley | City of Manhattan, (18-07-0921P) | The Honorable Linda Morse, Mayor, City of Manhattan, 1101 Poyntz Avenue Manhattan, KS 66502 | City Hall, 1101 Poyntz Avenue, Manhattan, KS 66502 | https://msc.fema.gov/portal/advanceSearch | Sep. 19, 2018 | 200300
Missouri: St. Louis | City of Ladue, (17-07-2658P) | The Honorable Nancy Spewak, Mayor, City of Ladue, 9345 Clayton Road, Ladue, MO 63124 | City Hall, 9345 Clayton Road, Ladue, MO 63124 | https://msc.fema.gov/portal/advanceSearch | Sep. 14, 2018 | 290363
New York:
Nassau | City of Glen Cove, (18-02-0451P) | The Honorable Tim Tenke, Mayor, City of Glen Cove, 9 Glen Street, Glen Cove, NY 11542 | City Hall, 9 Glen Street, Glen Cove, NY 11542 | https://msc.fema.gov/portal/advanceSearch | Nov. 2, 2018 | 360465
Onondaga | Town of Lysander, (18-02-0720P) | The Honorable Joseph P. Saraceni, Town Supervisor, Town of Lysander, 8220 Loop Road, Baldwinsville, NY 13027 | Town Hall, 8220 Loop Road, Baldwinsville, NY 13027 | https://msc.fema.gov/portal/advanceSearch | Nov. 2, 2018 | 360583
Ohio:
Champaign | City of Urbana, (17-05-6915P) | The Honorable Bill Bean Mayor, City of Urbana 205 South Main Street Urbana, OH 43078 | Municipal Building, 205 South Main Street, Urbana, OH 43078 | https://msc.fema.gov/portal/advanceSearch | Sep. 13, 2018 | 390060
Champaign | Unincorporated Areas of Champaign County, (17-05-6915P) | Mr. Bob E. Corbett Commissioner, Champaign County, 205 South Main Street, Urbana, OH 43078 | Champaign County Engineer Office, 428 Beech Street, Urbana, OH 43078 | https://msc.fema.gov/portal/advanceSearch | Sep. 13, 2018 | 390055
Madison | City of London, (17-05-6148P) | The Honorable Patrick J. Closser, Mayor, City of London, 6 East 2nd Street, London, OH 43140 | City Building, 102 ½ South Main Street, London, OH 43140 | https://msc.fema.gov/portal/advanceSearch | Sep. 6, 2018 | 390366
Pennsylvania:
Montgomery | Township of Upper Dublin, (17-03-1574P) | Mr. Ira S. Tackel, President, Upper Dublin Township Board of Commissioners, 801 Loch Alsh Avenue, Fort Washington, PA 19034 | Municipal Hall, 801 Loch Alsh Avenue, Fort Washington, PA 19034 | https://msc.fema.gov/portal/advanceSearch | Sep. 17, 2018 | 420708
Montgomery | Township of Whitemarsh, (17-03-1574P) | Ms. Amy R. Grossman, Chair, Whitemarsh Township Board of Supervisors, 616 Germantown Pike, Lafayette Hill, PA 19444 | Administrative Building, 616 Germantown Pike, Lafayette Hill, PA 19444 | https://msc.fema.gov/portal/advanceSearch | Sep. 17, 2018 | 420712
Wisconsin: Dodge | Unincorporated Areas of Dodge, County, (17-05-4613P) | The Honorable Russell Kottke, Chairman, Dodge County Board of Supervisors, Administrative Building, 127 East Oak Street, Juneau, WI 53039 | Dodge County Administrative Building, 127 East Oak Street, Juneau, WI 53039 | https://msc.fema.gov/portal/advanceSearch | Jun. 21, 2018 | 550094

[FR Doc. 2018-13605 Filed 6-25-18; 8:45 am]

BILLING CODE 9110-12-P